DEPARTMENT OF TRANSPORTATION

Federal Aviation Administration

14 CFR Part 39

[Docket No. 2004-NE-11-AD; Amendment 39-13922; AD 2004-26-10]

RIN 2120-AA64

Airworthiness Directives; Rolls-Royce Deutschland (RRD) (Formerly Rolls-Royce, plc) Tay 611-8, Tay 620-15, Tay 620-15/20, Tay 650-15, Tay 650-15/10, and Tay 651-54 Turbofan Engines; Correction

AGENCY: Federal Aviation Administration, DOT.

ACTION: Final rule; correction.

SUMMARY: This document makes corrections to Airworthiness Directive (AD) 2004-26-10. That AD applies to certain RRD Tay 611-8, Tay 620-15, Tay 620-15/20, Tay 650-15, Tay 650-15/10, and Tay 651-54 turbofan engines with ice-impact panels installed in the low pressure (LP) compressor case. That AD was published in the Federal Register on January 6, 2005 (70 FR 1172). This document corrects the same service bulletin paragraph number reference in 17 locations of the compliance section. This document also corrects an inspection limit and a service bulletin number in the compliance section. In all other respects, the original document remains the same.

EFFECTIVE DATE: Effective January 26, 2005.

FOR FURTHER INFORMATION CONTACT: Jason Yang, Aerospace Engineer, Engine Certification Office, FAA, Engine and Propeller Directorate, 12 New England Executive Park, Burlington, MA 01803-5299; telephone (781) 238-7747; fax (781) 238-7199.

SUPPLEMENTARY INFORMATION: A final rule; request for comments AD, FR Doc. 05-40, that applies to certain RRD Tay 611-8, Tay 620-15, Tay 620-15/20, Tay 650-15, Tay 650-15/10, and Tay 651-54 turbofan engines with ice-impact panels installed in the low pressure (LP) compressor case, was published in the Federal Register on January 6, 2005 (70 FR 1172). The following corrections are needed:

§ 39.13 [Corrected]

On page 1174, in the third column, in paragraph (f)(1), “paragraph 3.E.” is corrected to read “paragraphs 3.C. through 3.E”.

On page 1175, in the first column, in paragraphs (f)(2), (g)(1), (g)(2), (g)(3), (j)(1), and (j)(2), “paragraph 3.E” is corrected to read “paragraphs 3.C. through 3.E” in six locations.

On page 1175, in the second column, in paragraphs (k)(1), (k)(2), (k)(3), (n)(2), and (o)(1), “paragraph 3.E” is corrected to read “paragraphs 3.C. through 3.E” in five locations.

On page 1175, in the third column, in paragraphs (o)(2), (p)(1), (p)(2), (p)(3), and (s)(2), “paragraph 3.E” is corrected to read “paragraphs 3.C. through 3.E” in five locations.

On page 1175, in the third column, in paragraph (s)(1), “3,000 CSLI” is corrected to read “3,000 hours-since-last-inspection”.

On page 1175, in the third column, in paragraph (s)(2), “TAY-72-1638” is corrected to read “TAY-72-1639”.

Issued in Burlington, MA, on January 19, 2005.
Jay J. Pardee,
Manager, Engine and Propeller Directorate, Aircraft Certification Service.

[FR Doc. 05-1392 Filed 1-25-05; 8:45 am]

BILLING CODE 4910-13-P